DEPARTMENT OF THE INTERIOR

Bureau of Land Management

(WY-030-1430-ES; WYW-16661 1) Notice of Realty Action; Recreation and Public Purposes (R&PP) Act Classification

AGENCY: Bureau of Land Management, Interior.

ACTION: Notice.

SUMMARY: The Bureau of Land Management (BLM) has examined and found suitable for classification for lease and/or conveyance under the provisions of the Recreation and Public Purposes Act, 44.49 acres of public land in Carbon County, Wyoming. Carbon County proposes to use the land for museum purposes.

DATES: Comments must be received by June 2, 2008.

ADDRESSES: Comments should be sent to the BLM, Rawlins Field Office, 1300 North 31 Street, Rawlins, Wyoming 82301, ATTN: Diane Schurman. Detailed information concerning this action, including appropriate environmental documentation, is available for review at the above address.

FOR FURTHER INFORMATION CONTACT: Diane Schurman, Realty Specialist, at the above address or at (307) 328-4261.

SUPPLEMENTARY INFORMATION: In response to an application from the Carbon County Commissioners, Wyoming, the following public lands have been examined and found suitable for classification for lease and/or conveyance under the provisions of the Recreation and Public Purposes Act, as amended (43 U.S.C. 869 et seq.)

Sixth Principal Meridian, Carbon County, Wyoming

North Parcel

“A track of land in the NW¼ of Sec. 20, T21N, R87W, Carbon County, Wyoming, more complete described as follows:

Beginning at a point on the West line of said Sec. 20 which is the Southerly property line of the Union Pacific Railroad and which bears S0°02′21″W, 1198.51 ft. from the Northwest corner of said Sec. 20, monumented with a triangular concrete monument sticking approximately 36 inches out of the ground;

Thence S0°02′21″W, 89.57 ft. along the West line of said Sec. 20 to the Northeasterly right-of-way line of Interstate 80, a non tangent curve concave northeasterly;

Thence along said right-of-way on a curve to the left an arc distance of 1166.72 ft. on a radius of 5559.33 ft. to a point on the Northwesterly right-of-way of Wyoming Highway 71;

Thence N55°46′10″E, 424.12 ft. along the Highway 71 right-of-way, to the beginning of a tangent curve to the right concave South;

Thence along said curve an arch distance of 823.04 ft. on a radius of 537.45 ft. through a central angle of 87°44′31″, a chord bearing and distance of S81°11′11″E, 744.95 ft., to the beginning of a non tangent curve to the left, concave Westerly on the West line of a connector road;

Thence along the Westerly line of said connector road and said curve an arc distance of 62.01 ft. on a radius of 240.0 ft. through a central angle of 14°48′16″, a chord bearing and distance of N24°22′06″E, 61.84 ft., to a point;

Thence along said Westerly line of said connector road N9°47′40″E, 229.38 ft. to a point on the South line of the NE¼NW¼ of said Sec. 20;

Thence N89°51′26″W, 903.56 ft. along the South line of said NE¼NW¼ to the Southwest corner of said NE¼NW¼, the Northwest 1/16 corner of said Sec. 20;

Thence N0°04′47″W, 1081.01 ft. along the West line of said NE¼NW¼ to a point on the South right-of-way line of the Union Pacific Railroad;

Thence S73°38′07″W, 527.84 ft. along the said South right of way line to a point;

Thence S45°19′21″W, 1147.55 ft. along the said South right-of-way line to the point of beginning, said tract containing 31.43 acres, more or less.”

South Parcel

“A tract of land in the SWY4NWY4 of Sec 20, T21N, R87W, Carbon County, Wyoming, more completely described as follows:

Beginning at the West quarter corner of said Sec. 20;

Thence S89°50′57″E, 1326.80 ft. along the East/West centerline of said Sec. 20 to the Southeast corner of the SW¼NW¼, (the Center West 1/16 corner of said Sec. 20);

Thence N0°04′47″W, 433.35 ft., more or less, to a point on the Southerly right-of way of Interstate 80 on a non tangent curve, concave Northeasterly;

Thence along said curve to the right an arch distance of 403.47 ft. on a radius of 5959.33 ft. through a central angle of 3°52′45″, a chord bearing and distance of N75°12′40″W, 403.40 ft. to a point on the Southerly right-of-way of said Highway 71;

Thence S74°45′20″W, 970.09 ft. along the Southerly right-of-way of said Highway 71 to a point on the West line of said Sec. 20;

Thence S0°02′21″W, 277.81 ft. along the West line of said Sec. 20 to the point of beginning, said tract containing 13.06 acres, more or less.”

The area described contains 44.49 acres more or less.

The lands are not needed for Federal purposes. Lease and/or conveyance is consistent with current Bureau land-use planning and would be in the public interest. The patent, if issued, will be subject to the following reservations, terms, and conditions:

(1) Provisions of the Recreation and Public Purposes Act and all applicable regulations of the Secretary of the Interior.

(2) Provided that title shall revert to the United States upon a finding, after notice and opportunity for a hearing, that, without the approval of the Secretary of the Interior or his delegate, the patentee or its approved successor attempts to transfer title to or control over the lands to another, the lands have been devoted to a use other than that for which the lands were conveyed, or the lands have not been used for the purpose for which the lands were conveyed for a 5-year period, or the patentee has failed to follow the approved development plan or management plan.

(3) Provided further that the Secretary of the Interior may take action to revest title in the United States if the patentee directly or indirectly permits its agents, employees, contractors, or subcontractors (including without limitation lessees, sub-lessees, and permittees) to prohibit or restrict, directly or indirectly, the use of any part of the patented lands or any of the facilities thereon by any person because of such person's race, creed, color, sex, national origin, or handicap.

(4) If, at any time, the patentee transfers to another party ownership of any portion of the land not used for the purpose(s) specified in the application and approved plan of development, the patentee shall pay the Bureau of Land Management the fair market value, as determined by the authorized officer, of the transferred portion as of the date of transfer, including the value of any improvements thereon.

(5) A right-of-way thereon for ditches and canals constructed by authority of the United States, pursuant to the Act of August 30, 1890 (43 U.S.C. 945).

(6) A reservation of all mineral deposits in the land so patented, and the right of the United States, or persons authorized by the United States, to prospect for, mine, and remove such deposits from the same under applicable laws and regulations as the Secretary of the Interior may prescribe.

(7) Any other valid and existing rights and encumbrances of record.

(8) Such other provisions as may be required by law, including compliance with the terms or provisions of Title VI of the Civil Rights Act of 1964 (78 Stat. 241).

Upon publication of this notice in the Federal Register, the lands will be segregated from all other forms of appropriation under the public land laws, including the general mining laws, except for lease/conveyance under the Recreation and Public Purposes Act. The segregative effect shall terminate upon issuance of a patent, upon final rejection of the application, or 18 months from the date of this notice, whichever occurs first.

Classification Comments: Interested parties may submit comments involving the suitability of the land for museum purposes. Comments on the classification are restricted to whether the land is physically suited for the proposed use, whether the use will maximize the future use or uses of the land, whether the use is consistent with local planning and zoning, or if the use is consistent with State and Federal programs.

Application Comments: Interested parties may submit comments regarding the specific use proposed in the application and plan of development and management, whether the BLM followed proper administrative procedures in reaching the decision, or any other factor not directly related to the suitability of the land for the proposed use.

For a period until June 2, 2008, interested parties and the general public may submit in writing any comments concerning the land being considered for lease/conveyance, including notification of any encumbrances or other claims relating to the identified land, to the Field Manager, BLM Rawlins Field Office, at the above address. In order to ensure consideration in the environmental analysis of the proposed lease/sale, comments must be in writing and postmarked or delivered within 45 days of the initial date of publication of this Notice. Comments transmitted via e-mail will not be accepted.

Any objections will be evaluated by the State Director, who may sustain, vacate, or modify this realty action. In the absence of any adverse comments, regarding this realty action, it will become the final determination of the Department of the Interior. In the absence of any adverse comments, regarding the classification action, it will become effective June 16, 2008.

Before including your address, phone number, e-mail address, or other personal identifying information in your comment, you should be aware that your entire comment—including your personal identifying information—may be made publicly available at any time. While you can ask us in your comment to withhold your personal identifying information from public review, we cannot guarantee that we will be able to do so.

(Authority: 43 CFR 2741.4(h)(1)-(4))

Dated: March 24, 2008.
Patrick Madigan,
Rawlins Field Manager.

[FR Doc. E8-8023 Filed 4-15-08; 8:45 am]

BILLING CODE 4310-22-M